DEPARTMENT OF DEFENSE

GENERAL SERVICES ADMINISTRATION

NATIONAL AERONAUTICS AND SPACE ADMINISTRATION

48 CFR Part 52

[FAC 2005-09; Corrections; Docket FAR-2006—0020]

Federal Acquisition Regulation; Corrections

AGENCIES: Department of Defense (DoD), General Services Administration (GSA), and National Aeronautics and Space Administration (NASA).

ACTION: Corrections.

SUMMARY: The Civilian Agency Acquisition Council and the Defense Acquisition Regulations Council are issuing corrections to FAR Case 2004-031, Fast Payment Procedures (Item IX), which was published in the Federal Register at 71 FR 20308 and 20309, April 19, 2006.

DATES: Effective Date: May 19, 2006.

FOR FURTHER INFORMATION CONTACT: The FAR Secretariat, Room 4035, GS Building, Washington, DC 20405, (202) 501-4755, for information pertaining to status or publication schedules. Please cite FAC 2005-09; Corrections.

Corrections

In the final rule document appearing in the issue of April 19, 2006:

1. On page 20308, third column, first paragraph under “Background,” revise the second sentence to read “No comments were submitted and the rule is being converted to a final rule without change from the proposed rule.”

52.213-1 [Corrected]

2a. On page 20309, first column, at 52.213-1 revise the date of the clause to read “(MAY 2006)”;

2b. In the second column, in paragraph (e) revise the paragraph heading to read “FAST PAY container identification.”

Dated: April 25, 2006.
Laurieann Duarte,
Supervisor, Regulatory Secretariat.

[FR Doc. 06-4068 Filed 4-28-06; 8:45 am]

BILLING CODE 6820-EP-S